DEPARTMENT OF THE INTERIOR

National Park Service

Notice of Inventory Completion for Native American Human Remains and Associated Funerary Objects in the Possession of the University of Nebraska-Lincoln, Lincoln, NE

AGENCY: National Park Service, Interior.

ACTION: Notice.

Notice is hereby given in accordance with provisions of the Native American Graves Protection and Repatriation Act (NAGPRA), 43 CFR 10.9, of the completion of an inventory of human remains and associated funerary objects in the possession of the University of Nebraska-Lincoln, Lincoln, NE.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by University of Nebraska-Lincoln professional staff in consultation with representatives of the Cheyenne River Sioux Tribe of the Cheyenne River Reservation, South Dakota; the Iowa Tribe of Oklahoma; the Kickapoo Tribe of Indians of the Kickapoo Reservation in Kansas; the Oglala Sioux Tribe of the Pine Ridge Reservation, South Dakota; the Omaha Tribe of Nebraska; the Pawnee Nation of Oklahoma; the Ponca Tribe of Nebraska; the Ponca Tribe of Indians of Oklahoma; the Rosebud Sioux Tribe of the Rosebud Indian Reservation, South Dakota; the Santee Sioux Tribe of the Santee Reservation of Nebraska; the Winnebago Tribe of Nebraska; the Yankton Sioux Tribe of South Dakota; and the North Dakota Intertribal Reinterment Committee representing the Standing Rock Sioux Tribe of North and South Dakota; the Spirit Lake Tribe, North Dakota; the Three Affiliated Tribes of the Fort Berthold Reservation, North Dakota; and the Turtle Mountain Band of Chippewa Indians of North Dakota.

At an unknown date, human remains representing one individual were recovered from an unknown location by person(s) unknown under unknown circumstances. They were acquired by the University of Nebraska State Museum at an unknown date under unknown circumstances. No known individual was identified. No associated funerary objects are present.

The collection number “1-20-6-34” has no known documentation. It resembles the “Barbour numbers” used by the Museum during the first half of the 20th century. Based on the condition of the human remains, this individual has been identified as Native American of an unknown period.

At an unknown date, human remains representing one individual were recovered from an unknown location by person(s) unknown under unknown circumstances. They were acquired by the University of Nebraska State Museum at an unknown date under unknown circumstances. No known individual was identified. No associated funerary objects are present.

The collection number “11-0-13” has no known documentation. It resembles the “Barbour numbers” used by the Museum during the first half of the 20th century. Based on dental morphology and the condition of the human remains, this individual has been identified as Native American, possibly from the pre-contact period.

At an unknown date, human remains representing one individual were recovered from an unknown location by person(s) unknown under unknown circumstances. They were acquired by the University of Nebraska State Museum at an unknown date under unknown circumstances. No known individual was identified. No associated funerary objects are present.

The collection number “11-13-07” has no known documentation. It resembles the “Barbour numbers” used by the Museum during the first half of the 20th century. This individual has been identified as Native American of an unknown period.

At an unknown date, human remains representing one individual were recovered from an unknown location by person(s) unknown under unknown circumstances. They were acquired by the University of Nebraska State Museum at an unknown date under unknown circumstances. No known individual was identified. No associated funerary objects are present.

The collection number “2-23-11-03” has no known documentation. It resembles the “Barbour numbers” used by the Museum during the first half of the 20th century. Based on the condition of the human remains, this individual has been identified as Native American possibly from the pre-contact period.

At an unknown date, human remains representing seven individuals were recovered from an unknown location by person(s) unknown under unknown circumstances. They were acquired by the University of Nebraska State Museum in 1895 as part of the “Moody Collection.” No known individuals were identified. No associated funerary objects are present.

The collection number “28-22-4-95” has no known documentation. Much of the “Moody Collection” is known to have been derived from Illinois or Ohio, but the source of these human remains is unknown. These individuals have been identified as Native American of an unknown period.

At an unknown date, human remains representing one individual were recovered from an unknown location by person(s) unknown under unknown circumstances. The human remains with collection number “4-28-3-31” were donated in 1931 to the University of Nebraska State Museum by Mrs. Charles Fritch of Pawnee County, Nebraska. No known individual was identified. No associated funerary objects are present.

This individual has been identified as Native American of an unknown period.

At an unknown date, human remains representing two individuals were recovered from an unknown location by person(s) unknown under unknown circumstances. They were acquired by the University of Nebraska State Museum at an unknown date under unknown circumstances. No known individuals were identified. No associated funerary objects are present.

The assigned number “1229” has no known documentation. Based on the condition of the human remains, these individuals have been identified as Native American possibly from the pre-contact period.

At an unknown date, human remains representing four individuals were recovered from an unknown location by person(s) unknown under unknown circumstances. They were acquired by the University of Nebraska State Museum at an unknown date under unknown circumstances. No known individuals were identified. No associated funerary objects are present.

The assigned number “1230” has no known documentation. Based on dental morphology and the condition of the human remains, these individuals have been identified as Native American possibly of the pre-contact period.

At an unknown date, human remains representing one individual were recovered from an unknown location by person(s) unknown under unknown circumstances. They were acquired by the University of Nebraska State Museum at an unknown date under unknown circumstances. No known individual was identified. No associated funerary objects are present.

The assigned number “33StH Burial 1” has no known documentation. This individual has been identified as Native American of an unknown period.

At an unknown date, human remains representing one individual were recovered from an unknown location by person(s) unknown under unknown circumstances. They were acquired by the University of Nebraska State Museum at an unknown date under unknown circumstances. No known individual was identified. No associated funerary objects are present.

The assigned number “68/1929” has no known documentation. Based on the condition of the human remains, this individual has been identified as Native American of an unknown period.

At an unknown date, human remains representing one individual were recovered from an unknown location by person(s) unknown under unknown circumstances. They were acquired by the University of Nebraska State Museum at an unknown date under unknown circumstances. No known individual was identified. No associated funerary objects are present.

The assigned collection number “8-1-07” has no known documentation. It resembles the “Barbour numbers” used by the Museum during the first half of the 20th century. Based on the condition of the human remains, this individual has been identified as Native American of an unknown period.

At an unknown date, human remains representing two individuals (collection number 977/1949) were recovered by Robert T. Gilder of Omaha, NE from an unknown location under unknown circumstances. In 1974, these human remains were transferred from the Joslyn Art Museum, Omaha, NE, to the University of Nebraska State Museum. These human remains had been transferred earlier to the Joslyn Museum on permanent loan from the Omaha Public Library, Omaha, NE. No known individuals were identified. No associated funerary objects are present.

Based on the condition of the human remains, these individuals have been identified as Native American, possibly of the Archaic or Woodland periods.

At an unknown date, human remains representing one individual were recovered from an unknown location by person(s) unknown under unknown circumstances. They were acquired by the University of Nebraska State Museum at an unknown date under unknown circumstances. No known individual was identified. No associated funerary objects are present.

The assigned collection number “A30.11.07” has no known documentation. Based on osteological evidence and dental morphology, this individual has been identified as Native American of an unknown period.

At an unknown date, human remains representing one individual were recovered from an unknown location by person(s) unknown under unknown circumstances. They were acquired by the University of Nebraska State Museum at an unknown date under unknown circumstances. No known individual was identified. No associated funerary objects are present.

The assigned number “CK-39 B-35 (Mc008)” has no known documentation. Based on the condition of the human remains, this individual has been identified as Native American of an unknown period.

At an unknown date, human remains representing one individual were recovered from an unknown location by person(s) unknown under unknown circumstances. They were acquired by the University of Nebraska State Museum at an unknown date under unknown circumstances. No known individual was identified. No associated funerary objects are present.

The assigned number “GV2(Mc008)” has no known documentation. This individual has been identified as Native American of an unknown period.

At an unknown date, human remains representing two individuals were recovered from an unknown location by person(s) unknown under unknown circumstances. They were acquired by the University of Nebraska State Museum at an unknown date under unknown circumstances. No known individuals were identified. No associated funerary objects are present.

The assigned number “LF27” has no known documentation. These individuals have been identified as Native American of an unknown period.

At an unknown date, human remains representing three individuals were recovered from an unknown location by person(s) unknown under unknown circumstances. They were acquired by the University of Nebraska State Museum at an unknown date under unknown circumstances. No known individuals were identified. No associated funerary objects are present.

The assigned number “LF28” has no known documentation. These individuals have been identified as Native American from an unknown period.

At an unknown date, human remains representing two individuals were recovered from an unknown location by person(s) unknown under unknown circumstances. They were acquired by the University of Nebraska State Museum at an unknown date under unknown circumstances. No known individuals were identified. No associated funerary objects are present.

The assigned number “Lb.AK.1 (Mc008)” has no known documentation. These individuals have been identified as Native American of an unknown period.

At an unknown date, human remains representing one individual were recovered from an unknown location by person(s) unknown under unknown circumstances. They were acquired by the University of Nebraska State Museum at an unknown date under unknown circumstances. No known individual was identified. No associated funerary objects are present.

The assigned number “Lf Be 1-26 (Mc008)” has no known documentation. These individual has been identified as Native American of an unknown period.

At an unknown date, human remains representing one individual were recovered from an unknown location by person(s) unknown under unknown circumstances. They were acquired by the University of Nebraska State Museum at an unknown date under unknown circumstances. No known individual was identified. No associated funerary objects are present.

The assigned number “Lf Cpl (Mc008)” has no known documentation. This individual has been identified as Native American of an unknown period.

At an unknown date, human remains representing two individuals were recovered from an unknown location by person(s) unknown under unknown circumstances. They were acquired by the University of Nebraska State Museum at an unknown date under unknown circumstances. No known individuals were identified. No associated funerary objects are present.

The assigned number “MLvl (Mc008)” has no known documentation. These individuals have been identified as Native American of an unknown period.

At an unknown date, human remains representing three individuals were recovered from an unknown location by person(s) unknown under unknown circumstances. They were acquired by the University of Nebraska State Museum at an unknown date under unknown circumstances. No known individuals were identified. No associated funerary objects are present.

The assigned number “Mc008” has no known documentation. These individuals have been identified as Native American of an unknown period

At an unknown date, human remains representing one individual were recovered from an unknown location by person(s) unknown under unknown circumstances. They were acquired by the University of Nebraska State Museum at an unknown date under unknown circumstances. No known individual was identified. No associated funerary objects are present.

The assigned number “Mc009” has no known documentation. This individual has been identified as Native American of an unknown period.

At an unknown date, human remains representing one individual were recovered from an unknown location by person(s) unknown under unknown circumstances. They were acquired by the University of Nebraska State Museum at an unknown date under unknown circumstances. No known individual was identified. No associated funerary objects are present.

The assigned number “N-4-1-7” has no known documentation. Based on osteological evidence and the condition of the human remains, this individual has been identified as Native American of an unknown period.

At an unknown date, human remains representing two individuals were recovered from an unknown location by person(s) unknown under unknown circumstances. They were acquired by the University of Nebraska State Museum at an unknown date under unknown circumstances as part of the “Hugo T. Rice Collection.” No known individuals were identified. No associated funerary objects are present.

The assigned number “Nelson Site (Mc008)” has no known documentation. The location of the “Nelson Site” is unknown. Based on the condition of the human remains, these individuals have been identified as Native American possibly of the historic period.

At an unknown date, human remains representing two individuals were recovered from an unknown location by person(s) unknown under unknown circumstances. In 1981, they were transferred from the Zoology Division of the University of Nebraska State Museum to the Anthropology Division of the Museum. No known individuals were identified. No associated funerary objects are present.

The assigned collection number “A81-4” has no associated documentation. Based on osteological evidence and the condition of the human remains, these individuals have been identified as Native American of an unknown period.

At an unknown date, human remains representing one individual were recovered from an unknown location by person(s) unknown under unknown circumstances. They were acquired by the University of Nebraska State Museum at an unknown date under unknown circumstances. No known individual was identified. No associated funerary objects are present.

The assigned number “Wa-5 B15 (Mc008)” has no known documentation. This individual has been identified as Native American of an unknown period.

At an unknown date, human remains representing two individuals were recovered from an unknown location by person(s) unknown under unknown circumstances. At an unknown date, they were acquired by the University of Nebraska Department of Anthropology under unknown circumstances. No known individuals were identified. No associated funerary objects are present.

Based on copper staining and the condition of the human remains, these individuals have been identified as Native American from the historic period.

At an unknown date, human remains representing 43 individuals were recovered from an unknown location by person(s) unknown under unknown circumstances. At an unknown date, they were acquired by the University of Nebraska Department of Anthropology under unknown circumstances. No known individuals were identified. No associated funerary objects are present.

These individuals have been identified as Native American of an unknown period.

At an unknown date, human remains representing eleven individuals were recovered from an unknown location by person(s) unknown under unknown circumstances. At an unknown date, they were acquired by the University of Nebraska Department of Anthropology under unknown circumstances. No known individuals were identified. No associated funerary objects are present.

The designation “Bass, 1960, unprovenienced” has no known documentation. These individuals have been identified as Native American of an unknown period.

At an unknown date, human remains representing one individual were recovered from an unknown location by person(s) unknown under unknown circumstances. At an unknown date, they were acquired by the University of Nebraska Department of Anthropology under unknown circumstances. No known individual was identified. No associated funerary objects are present.

The designation “Bass, 1960, unprovenienced” has no known documentation. Based on osteological evidence and the condition of the human remains, this individual has been determined to be mixed-blood Native American/Negroid or possibly Negroid from the historic period.

At unknown date(s), human remains representing a minimum of 185 individuals were recovered from unknown location(s) by person(s) unknown under unknown circumstances. At unknown date(s), they were acquired by the University of Nebraska Department of Anthropology under unknown circumstances. No known individuals were identified. No associated funerary objects are present.

The human remains were sorted by bone elements at unknown date(s) and were part of the former teaching collection of the Department of Anthropology, University of Nebraska. No documentation is available for any of the human remains. These individuals have been identified as Native American of unknown periods.

At unknown dates, human remains representing a minimum of 41 individuals were recovered from unknown locations by persons unknown under unknown circumstances. They were acquired by the University of Nebraska at unknown dates under unknown circumstances. No known individuals were identified. No associated funerary objects are present.

The human remains were inventoried by Peer Moore-Jansen in 1998 and 1999. Four of the individuals have designations of unknown significance: “M002 G,” “7,” “8-875,” and “14-2.” No documentation is available for any of these human remains. Based on osteological evidence and the condition of the human remains, these individuals have been identified as Native American of unknown periods.

The majority of documented Native American human remains in the possession of the University of Nebraska-Lincoln are derived from Nebraska, making it likely that many of the human remains listed above in this notice also were derived from the area of the present State of Nebraska.

Based on the above-mentioned information, officials of the University of Nebraska have determined that, pursuant to 43 CFR 10.2 (d)(1), the human remains listed above represent the physical remains of a minimum of 330 individuals of Native American ancestry. In accordance with the recommendations of the NAGPRA Review Committee, officials of the University of Nebraska have determined that, pursuant to 43 CFR 10.2 (e), there is no relationship of shared group identity that can reasonably be traced between these Native American human remains and any present-day Indian tribe or group, and the disposition of these Native American human remains will be to the following tribes with historic or aboriginal cultural ties to the area of the present State of Nebraska: Cheyenne River Sioux Tribe of the Cheyenne River Reservation, South Dakota; the Iowa Tribe of Oklahoma; the Kickapoo Tribe of Indians of the Kickapoo Reservation in Kansas; the Oglala Sioux Tribe of the Pine Ridge Reservation, South Dakota; the Omaha Tribe of Nebraska; the Pawnee Nation of Oklahoma; the Ponca Tribe of Nebraska; the Ponca Tribe of Indians of Oklahoma; the Rosebud Sioux Tribe of the Rosebud Indian Reservation, South Dakota; the Santee Sioux Tribe of the Santee Reservation of Nebraska; the Winnebago Tribe of Nebraska; the Yankton Sioux Tribe of South Dakota; and the North Dakota Intertribal Reinterment Committee representing the Standing Rock Sioux Tribe of North and South Dakota; the Spirit Lake Tribe, North Dakota; the Three Affiliated Tribes of the Fort Berthold Reservation, North Dakota; and the Turtle Mountain Band of Chippewa Indians of North Dakota. This notice has been sent to officials of the Cheyenne River Sioux Tribe of the Cheyenne River Reservation, South Dakota; the Iowa Tribe of Oklahoma; the Kickapoo Tribe of Indians of the Kickapoo Reservation in Kansas; the Oglala Sioux Tribe of the Pine Ridge Reservation, South Dakota; the Omaha Tribe of Nebraska; the Pawnee Nation of Oklahoma; the Ponca Tribe of Nebraska; the Ponca Tribe of Indians of Oklahoma; the Rosebud Sioux Tribe of the Rosebud Indian Reservation, South Dakota; the Santee Sioux Tribe of the Santee Reservation of Nebraska; the Winnebago Tribe of Nebraska; the Yankton Sioux Tribe of South Dakota; and the North Dakota Intertribal Reinterment Committee representing the Standing Rock Sioux Tribe of North and South Dakota; the Spirit Lake Tribe, North Dakota; the Three Affiliated Tribes of the Fort Berthold Reservation, North Dakota; and the Turtle Mountain Band of Chippewa Indians of North Dakota. Representatives of any other Indian tribe that believes itself to be culturally affiliated with these human remains should contact Dr. Priscilla Grew, NAGPRA Coordinator, University of Nebraska-Lincoln, 301 Bessey Hall, Lincoln, NE 68588-0381, telephone (402) 472-7854, before November 1, 2000. Repatriation of the human remains to the Cheyenne River Sioux Tribe of the Cheyenne River Reservation, South Dakota; the Iowa Tribe of Oklahoma; the Kickapoo Tribe of Indians of the Kickapoo Reservation in Kansas; the Oglala Sioux Tribe of the Pine Ridge Reservation, South Dakota; the Omaha Tribe of Nebraska; the Pawnee Nation of Oklahoma; the Ponca Tribe of Nebraska; the Ponca Tribe of Indians of Oklahoma; the Rosebud Sioux Tribe of the Rosebud Indian Reservation, South Dakota; the Santee Sioux Tribe of the Santee Reservation of Nebraska; the Winnebago Tribe of Nebraska; the Yankton Sioux Tribe of South Dakota; and the North Dakota Intertribal Reinterment Committee representing the Standing Rock Sioux Tribe of North and South Dakota; the Spirit Lake Tribe, North Dakota; the Three Affiliated Tribes of the Fort Berthold Reservation, North Dakota; and the Turtle Mountain Band of Chippewa Indians of North Dakota may begin after that date if no additional claimants come forward.

Dated: September 20, 2000.
John Robbins,
Assistant Director, Cultural Resources Stewardship and Partnerships.

[FR Doc. 00-25127 Filed 9-29-00; 8:45 am]

BILLING CODE 4310-70-F